DEPARTMENT OF TRANSPORTATION

Office of the Secretary of Transportation

[DOT Docket No. DOT-OST-2010-0074]

The Future of Aviation Advisory Committee (FAAC) Aviation Safety Subcommittee; Notice of Meeting

AGENCY: U.S. Department of Transportation, Office of the Secretary of Transportation.

ACTION: The Future of Aviation Advisory Committee (FAAC): Aviation Safety Subcommittee; Notice of meeting.

SUMMARY: The Department of Transportation (DOT), Office of the Secretary of Transportation, announces a meeting of the FAAC Aviation Safety Subcommittee, which will be held August 24, 2010, in Chicago, Illinois. This notice announces the date, time, and location of the meeting, which will be open to the public. The purpose of the FAAC is to provide advice and recommendations to the Secretary of Transportation to ensure the competitiveness of the U.S. aviation industry and its capability to manage effectively the evolving transportation needs, challenges, and opportunities of the global economy. The Aviation Safety Subcommittee will receive a briefing from Federal Aviation Administration (FAA) officials on the agency's activities associated with the list of priority safety issues developed during the first meeting. The subcommittee will also develop a work plan for future meetings.

DATES: The meeting will be held on August 24, 2010, at 1 p.m. Central Daylight Time.

ADDRESSES: The meeting will be held at The Boeing Company, 100 North Riverside Plaza, Chicago, Illinois 60606.

Public Access: The meeting is open to the public. (See below for registration instructions.)

Public Comments: Persons wishing to offer written comments and suggestions concerning the activities of the advisory committee or subcommittee should file comments in the Public Docket (Docket Number DOT-OST-2010-0074 at www.regulations.gov) or alternatively through the FAAC@dot.gov e-mail address. If comments and suggestions are intended specifically for the Aviation Safety Subcommittee, the term “Aviation Safety” should be listed in the subject line of the message. To ensure such comments can be considered by the subcommittee before its August 24, 2010, meeting, public comments must be filed by close of business on Monday, August 16, 2010.

SUPPLEMENTARY INFORMATION:

Background

Under section 10(a)(2) of the Federal Advisory Committee Act (5 U.S.C. App. 2), we are giving notice of an FAAC Aviation Safety Subcommittee meeting taking place on August 24, 2010, at 1 p.m. Central Daylight Time, at The Boeing Company, 100 North Riverside Plaza, Chicago, Illinois 60606. The subcommittee will—

1. Receive a briefing from the FAA on existing safety activities associated with the list of priority safety issues developed during the previous meeting.

2. Discuss any necessary revisions to the priority list.

3. Develop a work plan for future meetings.

Registration

Because of space constraints and planning considerations, persons desiring to attend must pre-register through e-mail to FAAC@dot.gov. The term “Registration: Safety Subcommittee” must be listed in the subject line of the message, and admission will be limited to the first 25 persons to pre-register and receive a confirmation of their pre-registration. No arrangements are being made for audio or video transmission, or for oral statements or questions from the public at the meeting. Minutes of the meeting will be posted on the FAAC Web site at http://www.dot.gov/FAAC.

Request for Special Accommodation

The DOT is committed to providing equal access to this meeting for all participants. If you need alternative formats or services because of a disability, please send a request to FAAC@dot.gov with the term “Special Accommodations” listed in the subject line of the message by close of business on August 13, 2010.

FOR FURTHER INFORMATION CONTACT: Tony Fazio, Deputy Director, Office of Accident Investigation and Prevention, Federal Aviation Administration, 800 Independence Avenue, SW., Washington, DC; telephone (202) 267-9612; Tony.Fazio@FAA.gov.

Issued in Washington, DC, on July 27, 2010.
Pamela Hamilton-Powell,
Designated Federal Official, Future of Aviation Advisory Committee.

[FR Doc. 2010-18722 Filed 7-29-10; 8:45 am]

BILLING CODE P